DEPARTMENT OF THE INTERIOR

Bureau of Land Management

[LLID9310000 L16100000.DP0000. LXSISGST0000]

Notice of Availability of the Idaho and Southwestern Montana Greater Sage-Grouse Draft Land Use Plan Amendments and Draft Environmental Impact Statement

AGENCY: Bureau of Land Management, Interior.

ACTION: Notice of Availability.

SUMMARY: In accordance with the National Environmental Policy Act of 1969, as amended (NEPA), and the Federal Land Policy and Management Act of 1976, as amended, the Bureau of Land Management (BLM) and the Forest Service (USFS) have prepared a Draft Land Use Plan (LUP) Amendments and Draft Environmental Impact Statement (EIS) for managing Greater Sage-Grouse (GRSG) in the Idaho and Southwestern Montana sub-region, and by this notice are announcing the opening of the comment period.

DATES: To ensure that comments will be considered, the BLM and the USFS must receive written comments on the Draft LUP Amendments/Draft EIS within 90 days following the date the Environmental Protection Agency publishes notice of the Draft LUP Amendments/Draft EIS in the Federal Register. The BLM will announce future meetings or hearings and any other public participation activities at least 15 days in advance through public notices, media releases, and/or mailings.

ADDRESSES: You may submit comments related to the Idaho and Southwestern Montana Greater Sage-Grouse Draft LUP Amendments/Draft EIS by any of the following methods:

• Email: blm_id_swmt_sagegrouse_eis@blm.gov.

• Fax: 208-373-3805.

• Mail: BLM—Greater Sage-grouse EIS, 1387 S. Vinnell Way, Boise ID 83709.

Copies of the Idaho and Southwestern Montana Greater Sage-Grouse Draft LUP Amendments/Draft EIS are available at the BLM Idaho State Office, 1387 S. Vinnell Way, Boise ID 83709, or online at: http://www.blm.gov/id/st/en/prog/nepa_register/sage-grouse_rmp_revision.html.

FOR FURTHER INFORMATION CONTACT: Brent Ralston, the Idaho and Southwestern Montana Sub Regional Project Lead, telephone 208-373-3812; see address above; email bralston@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM and the Forest Service prepared the Idaho and Southwestern Montana Greater Sage-Grouse Draft LUP Amendments and Draft EIS to address a range of alternatives focused on specific conservation measures across the Idaho and Southwestern Montana range of the GRSG. This Draft LUP Amendments/Draft EIS is one of 15 separate planning efforts that are being undertaken as part of the BLM and Forest Service National Greater Sage-Grouse Planning Strategy. The Draft LUP Amendments/Draft EIS proposes to amend the LUPs for field offices on BLM and National Forest lands within the Idaho and southwest Montana sub-region boundaries. The current management decisions for resources are described in the following resource management plans (RMPs)/land resource management plans (LRMPs):

Bruneau Management Framework Plan (MFP)

Burley FO, ID 1985 Cassia Resource Management Plan (RMP)

Burley FO, ID 1982 Twin Falls MFP

Challis FO, ID 1999 Challis RMP

Dillon FO, MT 2006 Dillon RMP

Four Rivers FO, ID 1988 Cascade RMP

Four Rivers FO, ID 1983 Kuna RMP

Four Rivers FO, ID 2008 Snake River Birds of Prey National Conservation Area (NCA) RMP

Jarbidge FO, ID 1987 Jarbidge RMP

Owyhee FO, ID 1999 Owyhee RMP

Pocatello FO, ID 2012 Pocatello RMP

Salmon FO, ID 1987 Lemhi RMP

Shoshone FO, ID 2006 Craters of the Moon National Monument RMP

Shoshone FO, ID 1975 Magic MFP

Shoshone FO, ID 1981 Sun Valley MFP

Shoshone Field Office (FO), ID 1980 Bennett Hills/Timmerman Hills MFP

Shoshone and Burley FOs, ID 1985 Monument RMP

Upper Snake FO, ID 1981 Little Lost-Birch Creek MFP

Upper Snake FO, ID 1985 Medicine Lodge RMP

Upper Snake FO, ID 1981 Big Desert MFP

Upper Snake FO, ID 1983 Big Lost MFP

Forest Service

Beaverhead-Deerlodge NF, MT 2009 Beaverhead-Deerlodge National Forest (NF) Plan

Boise NF, ID 2003 Boise NF Plan

Caribou-Targhee NF, ID 2002 Curlew National Grassland Management Plan

Caribou-Targhee NF, ID 2003 Caribou NF Revised Forest Plan

Caribou-Targhee NF, ID 1997 Targhee NF Plan

Salmon-Challis NF, ID 1987 Challis NF Plan

Salmon-Challis NF, ID 1988 Salmon NF Plan

Sawtooth NF, ID, UT 2003 Sawtooth NF Revised Forest Plan

The planning area includes approximately 49.1 million acres of BLM, National Park Service, USFS, U.S. Bureau of Reclamation, State, local, and private lands located in Idaho and Southwestern Montana, in 34 counties: Ada, Adams, Bear Lake, Bingham, Blaine, Bonneville, Butte, Camas, Caribou, Cassia, Clark, Custer, Elmore, Fremont, Gem, Gooding, Jefferson, Jerome, Lemhi, Lincoln, Madison, Minidoka, Oneida Owyhee, Payette, Power, Twin Falls, Washington, Montana (MT), Beaverhead Deer Lodge (MT), Gallatin (MT), Madison (MT), Silver Bow (MT), and Box Elder (UT). Within the decision area, the BLM and the Forest Service administer approximately 12.7 million acres of public lands and 17.4 million acres of National Forest System Land, providing approximately 9.3 and 1.9 million acres of GRSG habitat, respectively. Surface management decisions made as a result of this Draft LUP Amendments/Draft EIS will apply only to BLM and USFS-administered lands in the decision area. The decision area for most program decisions is defined as those BLM and USFS-administered lands and Federal mineral estate within two categories of habitat:

• Preliminary Priority Habitat (PPH)—Areas identified as having the highest conservation value to maintaining sustainable GRSG populations; include breeding, late brood-rearing and winter concentration areas.

• Preliminary General Habitat (PGH)—Areas of seasonal or year-round habitat outside of priority habitat.

In addition, one alternative considered identifies off-highway vehicle decisions for all Idaho BLM-administered lands within the planning area.

The formal public scoping process for the LUP Amendments/EIS began on December 9, 2011, with the publication of a Notice of Intent in the Federal Register (76 FR 77008), and ended on March 23, 2012. The BLM held six scoping open houses in January and February 2012. The BLM used public scoping comments to help identify planning issues that directed the formulation of alternatives and framed the scope of analysis in the Draft LUP Amendments/Draft EIS. The scoping process was also used to introduce the public to preliminary planning criteria, which set limits on the scope of the Draft LUP Amendments/Draft EIS.

Major issues considered in the Draft LUP Amendments/Draft EIS include special status species management (GRSG specifically), wildfire, invasive species, infrastructure and human disturbance.

The Draft LUP Amendments/Draft EIS evaluates six alternatives in detail, including the No Action Alternative (Alternative A) and five action alternatives (Alternatives B, C, D, E and F). Alternatives D and E have been identified as co-Preferred Alternatives for the purposes of public comment and review. Identification of these alternatives, however, does not represent final agency direction, and the Proposed LUP Amendments/Final EIS may reflect changes or adjustments from information received during public comment, from new information, or from changes in BLM policies or priorities. The Proposed LUP Amendments/Final EIS may include objectives and actions described in the other analyzed alternatives as well.

Alternative A would retain the current management goals, objectives, and direction specified in the current LUPs for each field office and National Forest. Alternative B includes conservation measures from the Sage-Grouse National Technical Team Report. Alternative C includes conservation measures submitted to the BLM by conservation groups. Alternative D includes the Idaho and Southwestern Montana subregional alternative formulated by the BLM and USFS. Alternative E was taken from alternatives developed by the Idaho and Utah Governor's Offices. Alternative F includes measures submitted to the BLM by various conservation groups.

Areas of Critical Environmental Concern (ACECs) and USFS Zoological Areas are among the special designations under consideration within the range of alternatives. ACECs have been proposed in Alternatives C and F to protect GRSG habitat. There are 53 existing ACECs within the planning area containing approximately 325,000 acres of GRSG habitat. None of these ACECs have been identified as having Greater Sage-Grouse as a relevant and important value. The existing ACEC designations would be carried forward in alternatives B, D and E without change.

Pursuant to 43 CFR 1610.7-2(b), this notice announces a concurrent public comment period on proposed ACECs. Alternative C includes a proposal for four new ACECs encompassing approximately 4.2 million acres. Alternative F includes two proposals for new ACECs: (1) 17 new ACECs and 12 Zoological Areas encompassing 11.1 million acres; and (2) 18 new ACECs and 12 USFS Zoological Areas encompassing 2.5 million acres. These proposed ACECs/Zoological Areas would include the following resource use limitations if they were formally designated:

Closed to fluid mineral leasing; designated as a right-of-way exclusion area; closed to livestock grazing; allow vegetation treatments only for the benefit of GRSG; and recommended for withdrawal from mineral entry.

Pertinent information regarding all proposed ACECs including values, resource use limitations, and acreages are available at the following Web site:

http://www.blm.gov/id/st/en/prog/nepa_register/sage-grouse_rmp_revision.html. There are no new ACECs proposed within either of the co-Preferred Alternatives. Please note that public comments and information submitted including names, street addresses and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Timothy M. Murphy,
Acting BLM Idaho State Director.
Jamie E. Connell,
BLM Montana State Director.

[FR Doc. 2013-26260 Filed 10-31-13; 8:45 a.m.]

BILLING CODE 4310-GG-P